DEPARTMENT OF COMMERCE

National Oceanic and Atmospheric Administration

50 CFR Part 622

[I.D. 101904A]

Fisheries of the Caribbean, Gulf of Mexico, and South Atlantic; Reef Fish Fishery of the Gulf of Mexico; Closure of the Recreational Red Snapper Component

AGENCY: National Marine Fisheries Service (NMFS), National Oceanic and Atmospheric Administration (NOAA), Commerce.

ACTION: Closure of recreational fishery for red snapper.

SUMMARY: NMFS closes the recreational fishery for red snapper in the exclusive economic zone (EEZ) of the Gulf of Mexico. NMFS has determined that the annual recreational quota of 4.47 million lb (2.03 million kg) will be reached on October 31, 2004. This closure is necessary to protect the red snapper resource.

DATES: Closure is effective 12:01 a.m., local time, November 1, 2004, until 12:01 a.m., local time, on April 21, 2005.

FOR FURTHER INFORMATION CONTACT: Phil Steele, telephone 727-570-5784, fax 727-570-5583, e-mail Phil.Steele@noaa.gov.

SUPPLEMENTARY INFORMATION: The reef fish fishery of the Gulf of Mexico is managed under the Fishery Management Plan for the Reef Fish Resources of the Gulf of Mexico (FMP). The FMP was prepared by the Gulf of Mexico Fishery Management Council and is implemented under the authority of the Magnuson-Stevens Fishery Conservation and Management Act (Magnuson-Stevens Act) by regulations at 50 CFR part 622. Those regulations set the recreational quota for red snapper in the Gulf of Mexico at 4.47 million lb (2.03 million kg) for the current fishing year, January 1 through December 31, 2004.

Under 50 CFR 622.43(a), NMFS is required to close the recreational fishery for a species or species group when the quota for that species or species group is reached, or is projected to be reached, by filing a notification to that effect in the Federal Register. Based on current statistics, NMFS has determined that the recreational quota of 4.47 million lb (2.03 million kg) for red snapper will be reached by October 31, 2004. Accordingly, the recreational fishery in the EEZ in the Gulf of Mexico for red snapper will remain closed until 12:01 a.m., local time, on April 21, 2005.

During the closure, the bag and possession limits specified in 50 CFR 622.39(b)(1)(iii) and (b)(2) respectively, are zero. Also, in the Gulf of Mexico, on board a vessel for which a commercial permit for Gulf reef fish has been issued, the bag and possession limits for red snapper are zero, without regard to where such red snapper were harvested.

Classification

This action responds to the best available information recently obtained from the fishery. The Assistant Administrator for Fisheries, NOAA, finds that the need to immediately implement this action to close the fishery constitutes good cause to waive the requirements to provide prior notice and opportunity for public comment pursuant to the authority set forth in 5 U.S.C 553(b)(3)(B), as such procedures would be unnecessary and contrary to the public interest. Such procedures are unnecessary because the rule itself has been subject to notice and comment, and all that remains is to notify the public of the closure. Allowing prior notice and opportunity to comment is contrary to the public interest because it requires time, thus delaying closure of the fishery and increasing the chance of exceeding the quota. Similarly, there is a need to implement these measures in a timely fashion to prevent an overrun of the recreational quota of Gulf red snapper, given the capacity of the fishing fleet to harvest the quota quickly. Any delay in implementing this action would be impractical and contrary to the Magnuson-Steven Act, the FMP, and the public interest. Therefore, NMFS finds for good cause that the implementation of this action cannot be delayed for 30 days. Accordingly, under 5 U.S.C. 553(d)(3), a delay in the effective date is waived.

This action is authorized by 50 CFR 622.43(a) and is exempt from review under Executive Order 12866.

Authority: 16 U.S.C 1801 et seq.

Dated: October 21, 2004.
Dean Swanson,
Acting Director, Office of Sustainable Fisheries, National Marine Fisheries Service.

[FR Doc. 04-24105 Filed 10-25-04; 4:26 pm]

BILLING CODE 3510-22-S